DEPARTMENT OF HOMELAND SECURITY

Coast Guard

33 CFR Part 165

[Docket Number USCG-2013-0471]

RIN 1625-AA00

Safety Zone; Belt Parkway Bridge Construction, Gerritsen Inlet; Brooklyn, NY—Correction

AGENCY: Coast Guard, DHS.

ACTION: Correcting amendments.

SUMMARY: On May 12, 2014, the Coast Guard published in the Federal Register (79 FR 26848) a temporary interim rule and request for comments establishing a safety zone on the navigable waters of Gerritsen Inlet surrounding the Belt Parkway Bridge. Inadvertently, this rule included an error in one of the coordinates of the safety zone. This document corrects that error.

DATES: This rule is effective without actual notice from July 25, 2014 until September 30, 2017. For the purposes of enforcement, actual notice will be used from the date the rule was signed, April 30, 2014, until July 25, 2014.

ADDRESSES: Documents mentioned in this preamble are part of Docket Number USCG-2013-0471. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays. You may submit comments, identified by docket number, using any one of the following methods:

Federal eRulemaking Portal: http://www.regulations.gov.

Fax: (202) 493-2251.

Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Mr. Jeff Yunker, Coast Guard Sector New York, Waterways Management Division; telephone 718-354-4195, email jeff.m.yunker@uscg.mil or Chief Craig Lapiejko, Coast Guard First District Waterways Management Branch, telephone 617-223-8351, email craig.d.lapiejko@uscg.mil. If you have questions on viewing or submitting material to the docket, call Cheryl Collins, Program Manager, Docket Operations, telephone 202-366-9826.

SUPPLEMENTARY INFORMATION:

Background

On May 12, 2014, the Coast Guard published in the Federal Register a temporary interim rule and request for comments establishing a safety zone within 300 feet of the Belt Parkway Bridge on the navigable waters of Gerritsen Inlet (79 FR 26848).

Need for Correction

As stated in the Federal Register publication of the temporary interim rule and request for comments, the safety zone included all navigable waters of Gerritsen Inlet: Southeast of a line from 40°35′09.46″ N, 073°54′53.92″ W to 40°35′10.0″ N, 073°54′44.5″ W. However, the correct coordinates are Southeast of a line from 40°35′09.46″ N, 073°54′53.92″ W to 40°35′15.60″ N, 073°54′42.07″ W.

Upon publication of the temporary interim rule and request for comments in the Federal Register, the Coast Guard became aware of the errors in the text relating to the coordinates. This notice corrects those errors by publishing the correct coordinates of the safety zone.

List of Subjects in 33 CFR Part 165

Marine safety, Navigation (water), Reporting and recordkeeping requirements, waterways.

Accordingly, 33 CFR part 165 is corrected by making the following correcting amendments:

PART 165—REGULATED NAVIGATION AREAS AND LIMITED ACCESS AREA

1. The authority citation for part 165 continues to read as follows:

Authority: 33 U.S.C 1231; 46 U.S.C Chapter 701, 3306, 3703; 50 U.S.C. 191, 195; 33 CFR 1.05-1, 6.04-1, 6.04-6, 160.5; Pub. L. 107-295, 116 Stat. 2064; Department of Homeland Security Delegation No. 0170.1.

2. Revise paragraph (a) of § 165.T01-0471 to read as follows:

§ 165.T01-0471 Safety Zone; Belt Parkway Bridge Construction, Gerritsen Inlet, Brooklyn, NY.

(a) Location. The following area is a safety zone: All navigable waters of Gerritsen Inlet: Southeast of a line from 40°35′09.46″ N, 073°54′53.92″ W to 40°35′15.60″ N, 073°54′42.07″ W and Northwest of a line from 40°35′04.88″ N, 073°54′45.43″ W to 40°35′10.34″ N, 073°54′35.71″ W (NAD 83).

* * * * *

Dated: July 1, 2014.
G. Loebl,
Captain, U.S. Coast Guard, Captain of the Port New York.

[FR Doc. 2014-17609 Filed 7-24-14; 8:45 am]

BILLING CODE 9110-04-P